ENVIRONMENTAL PROTECTION AGENCY

[FRL-9657-2]

Clean Water Act: Final Agency Action on 32 Total Maximum Daily Loads (TMDLs) in Louisiana

AGENCY: Environmental Protection Agency (EPA).

ACTION: Notice of availability.

SUMMARY: This notice announces final agency action on 32 TMDLs prepared by EPA Region 6 for waters listed in Louisiana's, Lake Pontchartrain Basin, under Section 303(d) of the Clean Water Act (CWA). Documents from the administrative record file for the 32 TMDLs, including TMDL calculations and responses to comments, may be viewed at www.epa.gov/region6/water/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established 32 of these TMDLs pursuant to a consent decree entered in this lawsuit.

EPA Takes Final Agency Action on 32 TMDLs

By this notice EPA is taking final agency action on the following 32 TMDLs on waters located within the Louisiana Lake Pontchartrain Basin:

Subsegment | Waterbody name | Pollutant
040102 | Comite River—Wilson-Clinton Hwy to entrance of White Bayou (East Baton Rouge Parish) (Scenic) | Fecal Coliform
040103 | Comite River—Entrance of White Bayou to Amite River | Fecal Coliform.
040201 | Bayou Manchac—Headwaters to Amite River | Fecal Coliform.
040302 | Amite River—LA Hwy 37 to Amite River Diversion Canal | Fecal Coliform.
040304 | Grays Creek—Headwaters to River Amite | Fecal Coliform.
040305 | Colyell Creek System (includes Colyell Bay) | Fecal Coliform.
040503 | Natalbany River—Headwaters to Tickfaw River | Fecal Coliform.
040504 | Yellow Water River—Origin to Ponchatoula Creek | Fecal Coliform.
040505 | Ponchatoula Creek and Ponchatoula River | Fecal Coliform.
040603 | Selsers Creek—Origin to South Slough | Fecal Coliform.
040703 | Big Creek and Tributaries—Headwaters to confluence with Tangipahoia River | Fecal Coliform.
040909 | W-14 Main Diversion Canal—from its origin in the north end of the City of Slidell to its junction with Salt Bayou | Fecal Coliform.
040910 | Salt Bayou—Headwaters to Lake Pontchartrain (Estuarine) | Fecal Coliform.
041302 | Lake Pontchartrain Drainage Canals | Fecal Coliform.
041401 | New Orleans East Leveed Waterbodies (Estuarine) | Fecal Coliform.
040501 | Tickfaw River—From MS State Line to LA Hwy 42 (Scenic) | TDS.
040504 | Yellow Water River—Origin to Ponchatoula Creek | TDS.
040301 | Amite River—MS State Line to LA Hwy 37 (Scenic) | TSS.
040401 | Blind River—From Amite River Diversion Canal to mouth at Lake Maurepas (Scenic) | TSS.
040903 | Bayou Cane—Headwaters to U.S. Hwy 190 (Scenic) | TSS.
040303 | Amite River—Amite River Diversion Canal to Lake Maurepas | Mercury.
040401 | Blind River—From Amite River Diversion Canal to mouth at Lake Maurepas (Scenic) | Mercury.
040403 | Blind River—Source to confluence with Amite River Diversion Canal (Scenic) | Mercury.
040501 | Tickfaw River—From MS State Line to LA Hwy 42 (Scenic) | Mercury.
040701 | Tangipahoa River—MS State Line to Interstate Hwy 1-12 (Scenic) | Mercury.
040801 | Tchefuncte River and Tributaries—Headwaters to confluence with Bogue Falaya River (Scenic) | Mercury.
040905 | Bayou Liberty—Headwaters to LA Hwy 433 Mercury.
040906 | Bayou Liberty—LA Hwy 433 to confluence With Bayou Bonfouca (Estuarine) | Mercury.
040505 | Ponchatoula Creek and Ponchatoula Dissolved River | Oxygen.
041201 | Bayou Labranche | Dissolved Oxygen.
041805 | Lake Borgne Canal (Violet Canal) | Dissolved Oxygen.
041401 | New Orleans East Leveed Waterbodies | Dissolved (Estuarine) Oxygen.

EPA requested the public provide to EPA any significant water quality related data or information that might impact the 32 TMDLs in the Federal Register Notices: volume 76, number 219, pages 70442 and 70443 (November 14, 2011), volume 76, number 234, page 76161 (December 6, 2011), and volume 76, number 247, page 80366 (December 23, 2011). The comments which were received, EPA's response to comments, as well as the TMDLs may be found at www.epa.gov/region6/water/npdes/tmdl/index.htm.

Dated: March 28, 2012.
William K. Honker,
P.E., Acting Director, Water Quality Protection Division, EPA Region 6.

[FR Doc. 2012-8496 Filed 4-9-12; 8:45 am]

BILLING CODE 6560-50-P